DEPARTMENT OF HOMELAND SECURITY

Federal Emergency Management Agency

[Docket ID FEMA-2010-0050]

Recovery Policy, RP9525.7, Labor Costs—Emergency Work

AGENCY: Federal Emergency Management Agency, DHS.

ACTION: Notice of availability; request for comments.

SUMMARY: The Federal Emergency Management Agency (FEMA) is accepting comments on RP9525.7, Labor Costs—Emergency Work. This is an existing policy that is scheduled for review to ensure that Recovery Directorate policies are up to date, incorporate lessons learned and are consistent with current laws and regulations. The purpose of this policy is to provide guidance on eligible labor costs for an applicant's permanent, temporary, and contract employees who perform emergency work (Categories A and B).

DATES: Comments must be received by September 13, 2010.

ADDRESSES: Comments must be identified by docket ID FEMA-2010-0050 and may be submitted by one of the following methods:

Federal eRulemaking Portal: http://www.regulations.gov. Follow the instructions for submitting comments. Please note that this proposed policy is not a rulemaking and the Federal Rulemaking Portal is being utilized only as a mechanism for receiving comments.

Mail: Rules Docket Manager, Office of Chief Counsel, Federal Emergency Management Agency, Room 835, 500 C Street, SW., Washington, DC 20472-3100.

FOR FURTHER INFORMATION CONTACT: Deborah Atkinson, Federal Emergency Management Agency, 500 C Street, SW., Washington, DC 20472, Deborah.Atkinson@dhs.gov.

SUPPLEMENTARY INFORMATION:

I. Public Participation

Instructions: All submissions received must include the agency name and docket ID. Regardless of the method used for submitting comments or material, all submissions will be posted, without change, to the Federal eRulemaking Portal at http://www.regulations.gov, and will include any personal information you provide. Therefore, submitting this information makes it public. You may wish to read the Privacy Act notice, which can be viewed by clicking on the “Privacy Notice” link in the footer of http://www.regulations.gov.

You may submit your comments and material by the methods specified in the ADDRESSES section above. Please submit your comments and any supporting material by only one means to avoid the receipt and review of duplicate submissions.

Docket: The proposed policy is available in docket ID FEMA-2010-0050. For access to the docket to read background documents or comments received, go to the Federal eRulemaking Portal at http://www.regulations.gov and search for the docket ID. Submitted comments may also be inspected at FEMA, Office of Chief Counsel, Room 835, 500 C Street, SW., Washington, DC 20472.

II. Background

On October 14, 1993, FEMA published a regulation that made the force account labor straight-time salary for work under Sections 403 and 407 ineligible under the Public Assistance Program. The 1993 regulation did not include emergency work accomplished under Section 502 (Federal Emergency Assistance) of The Robert T. Stafford Disaster Relief and Emergency Assistance Act, 42 U.S.C. 5121 et seq. The ineligibility of straight-time salaries for emergency work under Section 502 is included as a provision of the FEMA-State Agreement.

Labor (straight-time, overtime, and fringe benefits to the extent the benefits were being paid before the disaster) performed under Section 406 (permanent work) of the Stafford Act remains eligible for reimbursement.

In the draft updated policy, FEMA proposes that labor costs for firefighters and other responders when activated and deployed to perform eligible emergency work be eligible for reimbursement. FEMA also proposes to provide assistance for overtime for firefighters for up to 24 hours per day for the first two weeks after a disaster.

FEMA seeks comment on the proposed policy, which is available online at http://www.regulations.gov in docket ID FEMA-2010-0050. Based on the comments received, FEMA may make appropriate revisions to the proposed policy. Although FEMA will consider any comments received in the drafting of the final policy, FEMA will not provide a response to comments document. When or if FEMA issues a final policy, FEMA will publish a notice of availability in the Federal Register and make the final policy available at http://www.regulations.gov.

Authority: 42 U.S.C. 5121-5207; 44 CFR part 206.

David J. Kaufman,
Director, Office of Policy and Program Analysis, Federal Emergency Management Agency.

[FR Doc. 2010-20072 Filed 8-12-10; 8:45 am]

BILLING CODE 9111-23-P